DEPARTMENT OF VETERANS AFFAIRS

[OMB Control No. 2900-0606]

Agency Information Collection (Collection or Recovery by VA for Medical Care or Services Provided or Furnished to a Veteran for a Nonservice-Connected Disability) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before July 7, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0606 (Collection or Recovery by VA for Medical Care or Services Provided or Furnished to a Veteran for a Nonservice-Connected Disability)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0606 (Collection or Recovery by VA for Medical Care or Services Provided or Furnished to a Veteran for a Nonservice-Connected Disability)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Supplementary Information:

Title: Collection or Recovery by VA for Medical Care or Services Provided or Furnished to a Veteran for a Nonservice-Connected Disability.

OMB Control Number: 2900-0606.

Type of Review: Revision of a currently approved collection.

Abstract: Public Law 105-33 amended the statutory provision of 38 U.S.C. 1729 to authorize VA to bill “reasonable charges” instead of “reasonable cost” for medical care or services provided or furnished to a Veteran:

(a) For a non-service connected disability for which the Veteran is entitled to care (or the payment of expenses of care) under a health-plan contract;

(b) For a non-service connected disability incurred incident to the Veteran's employment and covered under a worker's compensation law or plan that provides reimbursement or indemnification for such care and services; or

(c) For a non-service connected disability incurred as a result of a motor vehicle accident in a State that requires automobile accident reparations insurance.

“Reasonable charges” are collected from available data (that includes complexity of care, degree of skill, provider specialty, and third party payer prevailing charges in other area) to set the local market charges for each geographic area where VA provides care. “Reasonable cost”, on the other hand, does not factor all of these criteria and can impact the amount reimbursed to the VA. In the circumstances described above, third party payers set their allowable rate structure for compensable care based on their payment methodology, thus the importance in obtaining this information to ensure VA is reimbursed similarly to non-government entities. VA also utilizes reasonable charges to settle subrogated claims for worker's compensation or motor vehicle accidents.

Affected Public: Individuals or households.

Estimated Annual Burden: 800 hours.

Estimated Average Burden per Respondent: Two hours.

Frequency of Response: Annually.

Estimated Annual Responses: 800.

Dated: June 3, 2014.
By direction of the Secretary.
Crystal Rennie,
VA Clearance Officer, U.S. Department of Veterans Affairs.

[FR Doc. 2014-13159 Filed 6-5-14; 8:45 am]

BILLING CODE 8320-01-P